DEPARTMENT OF THE TREASURY

Submission for OMB Review; Comment Request

May 20, 2013.

The Department of the Treasury will submit the following information collection requests to the Office of Management and Budget (OMB) for review and clearance in accordance with the Paperwork Reduction Act of 1995, Public Law 104-13, on or after the date of publication of this notice.

DATES: Comments should be received on or before June 24, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0016.

Type of Review: Extension without change of a currently approved collection.

Title: United States Additional Estate Tax Return.

Form: 706-A.

Abstract: Form 706-A is used by individuals to compute and pay the additional estate taxes due under Code section 2032A(c). IRS uses the information to determine that the taxes have been properly computed. The form is also used for the basis election of section 1016(c)(1).

Affected Public: Individuals or Households.

Estimated Annual Burden Hours: 1,678.

OMB Number: 1545-1144.

Type of Review: Extension without change of a currently approved collection.

Title: Generation-Skipping Transfer Tax Return for Distributions.

Form: 706-GS(D).

Abstract: Form 706-GS(D) is used by distributees to compute and report the Federal Generation Skipping Transfer tax imposed by IRC section 2601. IRS uses the information to enforce this tax and to verify that the tax has been properly computed.

Affected Public: Individuals or Households.

Estimated Annual Burden Hours: 980.

OMB Number: 1545-1702.

Type of Review: Extension without change of a currently approved collection.

Title: Information Return for Transfers Associated With Certain Personal Benefit Contracts.

Form: 8870.

Abstract: Section 170(c) charitable organizations or section 664(d) charitable remainder trusts that paid premiums after February 8, 1999, on certain “personal benefit contracts” must file Form 8870.

Affected Public: Private Sector: Not-for-profit institutions.

Estimated Annual Burden Hours: 74,200.

OMB Number: 1545-2153.

Type of Review: Extension without change of a currently approved collection.

Title: Notice 2009-83—Credit for Carbon Dioxide Sequestration Under Section 45Q.

Abstract: This notice sets forth interim guidance, pending the issuance of regulations, relating to the credit for carbon dioxide sequestration (CO2 sequestration credit) under § 45Q of the Internal Revenue Code.

Affected Public: Private Sector: Businesses or other for-profits.

Estimated Annual Burden Hours: 180.

OMB Number: 1545-2237.

Type of Review: Extension without change of a currently approved collection.

Title: RP-141793-11 (Rev. Proc. XXXX-XX), Disaster Relief.

Abstract: This revenue procedure provides guidance to State housing credit agencies (Agencies) and owners of low-income buildings (Owners) regarding the suspension of certain income limitation requirements under section 42 of the Internal Revenue Code for certain low-income housing tax credit properties affected by major disaster areas declared by the President under the Robert T. Stafford Disaster Relief and Emergency Assistance Act, 42 U.S.C. 5121 et seq. (Stafford Act).

Affected Public: Individuals or Households.

Estimated Annual Burden Hours: 1,750.

Dawn D. Wolfgang,
Treasury PRA Clearance Officer.

[FR Doc. 2013-12282 Filed 5-22-13; 8:45 am]

BILLING CODE 4830-01-P